DEPARTMENT OF COMMERCE

International Trade Administration

[A-583-837]

Polyethylene Terephthalate Film, Sheet, and Strip (PET Film) From Taiwan: Final Results of Antidumping Duty Administrative Review and Final Determination of No Shipments; 2014-2015

AGENCY: Enforcement and Compliance, International Trade Administration, Department of Commerce.

SUMMARY: On August 12, 2016, the Department of Commerce (the Department) published the preliminary results of the administrative review of the antidumping duty (AD) order on polyethylene terephthalate film, sheet, and strip (PET Film) from Taiwan in accordance with section 751(a)(1)(B) of the Tariff Act of 1930, as amended (the Act). See Polyethylene Terephthalate Film, Sheet, and Strip (PET Film) from Taiwan: Preliminary Results of Antidumping Duty Administrative Review and Preliminary Determination of No Shipments; 2014-2015, 81 FR 53441 (August 12, 2016) (Preliminary Results). This review covers Nan Ya Plastics Corporation (Nan Ya) and Shinkong Materials Technology Corporation (SMTC). We invited interested parties to comment on the Preliminary Result and received no comments or requests for a hearing. Therefore, for the final results, we continue to find that sales of subject merchandise by Nan Ya were not made at prices less than normal value during the period of review (POR). We continue to find that SMTC had no shipments of subject merchandise during the POR.

DATES: Effective December 9, 2016.

FOR FURTHER INFORMATION CONTACT: Jacqueline Arrowsmith, AD/CVD Operations, Office VII, Enforcement and Compliance, International Trade Administration, U.S. Department of Commerce, 1401 Constitution Avenue NW., Washington, DC 20230; telephone: (202) 482-5255.

SUPPLEMENTARY INFORMATION:

Background

On August 12, 2016, the Department published the Preliminary Results.¹ The POR is July 1, 2014, through June 30, 2015. We invited interested parties to comment on the Preliminary Results. We received no comments or requests for a hearing from any party. The Department conducted this administrative review in accordance with section 751(a)(2) of the Act.

¹ See Preliminary Results.

Scope of the Order

The products covered by the antidumping duty order are all gauges of raw, pretreated, or primed PET film, whether extruded or coextruded. Excluded are metalized films and other finished films that have had at least one of their surfaces modified by the application of a performance-enhancing resinous or inorganic layer of more than 0.00001 inches thick. Imports of polyethylene terephthalate film, sheet, and strip are currently classifiable in the Harmonized Tariff Schedule of the United States (HTSUS) under item number 3920.62.00.90. HTSUS subheadings are provided for convenience and customs purposes. The written description of the scope of the antidumping duty order is dispositive.

Final Results of Review

As noted above, the Department received no comments concerning the Preliminary Results on the record of this segment of the proceeding. As there are no changes from, or comments upon, the Preliminary Results, the Department finds that there is no reason to modify its analysis and calculations. Thus, we continue to find that sales of subject merchandise by Nan Ya were not made at less than normal value during the POR. Further, we continue to find that SMTC had no shipments of subject merchandise during the POR. For further details of the issues addressed in this proceeding, see the Preliminary Results and the accompanying Preliminary Decision Memorandum.² The final weighted-average dumping margin for the period July 1, 2014, through June 30, 2015, for Nan Ya is zero percent.

² See “Decision Memorandum for Preliminary Results of Antidumping Duty Administrative Review and Preliminary Determination of No Shipments: Polyethylene Terephthalate Film, Sheet, and Strip from Taiwan; 2013-2014,” from Christian Marsh, Deputy Assistant Secretary for Antidumping and Countervailing Duty Operations, to Paul Piquado, Assistant Secretary for Enforcement and Compliance, dated August 5, 2016 (Preliminary Decision Memorandum), which can be accessed directly at http://enforcement.trade.gov/frn/index.html.

Final Determination of No Shipments

Based on our analysis of U.S. Customs and Border Protection (CBP) information and information provided by SMTC and its affiliate Shinkong Synthetic Fibers Corporation (SSFC), we determine that SMTC had no shipments of subject merchandise, and, therefore, no reviewable transactions, during the POR.³ For a full discussion of this determination, see the Preliminary Decision Memorandum, which is a public document and is on file electronically via Enforcement and Compliance's Antidumping and Countervailing Duty Centralized Electronic Service System (ACCESS).⁴ ACCESS is available to registered users at http://access.trade.gov and is available to all parties in the Central Records Unit in room B8024 of the main Commerce building. In addition, a complete version of the Preliminary Decision Memorandum can be accessed directly on the Internet at http://enforcement.trade.gov/frn/index.html. The signed and electronic versions of the Decision Memorandum are identical in content.

³ In the Preliminary Results for the 2008-2009 antidumping duty administrative review, we determined that for the purposes of calculating an antidumping margin, SMTC, and its parent company Shinkong Synthetic Fibers Corporation (SSFC) should be treated as a single entity. See Polyethylene Terephthalate Film, Sheet and Strip from Taiwan: Preliminary Results of Antidumping Duty Administrative Review, 75 FR 49902 (August 16, 2010), (unchanged in the Final Results for the 2008-2009 antidumping duty administrative review (Polyethylene Terephthalate Film, Sheet and Strip from Taiwan: Final Results of Antidumping Duty Administrative Review, 76 FR 9745 (February 22, 2011))).

⁴ See Preliminary Decision Memorandum at 3.

Assessment Rates

The Department will determine, and CBP shall assess, antidumping duties on all appropriate entries in this review, in accordance with section 751(a)(2)(C) of the Act and 19 CFR 351.212(b)(1). The Department intends to issue assessment instructions directly to CBP 15 days after publication of these final results of review. Because we calculated a zero margin in the final results of this review for Nan Ya, in accordance with 19 CFR 351.212 we will instruct CBP to liquidate the appropriate entries without regard to antidumping duties.

Cash Deposit Requirements

The following cash deposit requirements will be effective upon publication of the final results of this administrative review for all shipments of the subject merchandise entered, or withdrawn from warehouse, for consumption on or after the publication date, as provided for by section 751(a)(2)(C) of the Act: (1) The cash deposit rate for Nan Ya will be zero percent, the rate established in the final results of this review; (2) for previously reviewed or investigated companies not covered in this review, the cash deposit rate will continue to be the company-specific rate published for the most recent period; (3) if the exporter is not a firm covered in this or any previous review or in the original less-than-fair-value (LTFV) investigation but the manufacturer is, the cash-deposit rate will be the rate established for the most recent period for the manufacturer of the merchandise; and (4) if neither the exporter nor the manufacturer is a firm covered in this or any previous review or the investigation, the cash-deposit rate will continue to be the all-others rate of 2.40 percent which is the all-others rate established by the Department in the LTFV investigation.⁵ These cash deposit requirements, when imposed, shall remain in effect until further notice.

⁵ See PET Film from Taiwan Amended Final Determination, 67 FR at 44175, unchanged in Correction Notice, 67 FR at 46566.

Reimbursement of Duties

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

We are issuing and publishing this notice in accordance with sections 751(a)(1) and 777(i)(1) of the Act and 19 CFR 351.213(h).

Dated: December 5, 2016.
Paul Piquado,
Assistant Secretary for Enforcement and Compliance.

[FR Doc. 2016-29568 Filed 12-8-16; 8:45 am]

BILLING CODE 3510-DS-P